DEPARTMENT OF THE TREASURY

Office of Foreign Assets Control

31 CFR Part 596

Terrorism List Governments Sanctions Regulations

AGENCY: Office of Foreign Assets Control, Treasury.

ACTION: Final rule.

SUMMARY: The Office of Foreign Assets Control of the U.S. Department of the Treasury (“OFAC”) is amending the Terrorism List Governments Sanctions Regulations so that the schedule to which a prohibition section refers lists those countries that are currently designated as supporting international terrorism, instead of the countries that were designated as of the effective date of these regulations. This amendment also removes Iraq, Libya, and North Korea from the schedule, because these countries are no longer designated as state sponsors of terrorism.

DATES: Effective Date: May 18, 2009.

FOR FURTHER INFORMATION CONTACT: Assistant Director for Compliance, Outreach & Implementation, tel.: 202/622-2490, Assistant Director for Licensing, tel.: 202/622-2480, Assistant Director for Policy, tel.: 202/622-4855, Office of Foreign Assets Control, or Chief Counsel (Foreign Assets Control), tel.: 202/622-2410, Office of the General Counsel, Department of the Treasury, Washington, DC 20220 (not toll free numbers).

SUPPLEMENTARY INFORMATION:

Electronic and Facsimile Availability

This document and additional information concerning OFAC are available from OFAC's Web site (http://www.treas.gov/ofac) or via facsimile through a 24-hour fax-on-demand service, tel.: 202/622-0077.

Background

Section 321 of the Antiterrorism and Effective Death Penalty Act of 1996, 18 U.S.C. 2332d (the “Act”), makes it a criminal offense for United States persons, except as provided in regulations issued by the Secretary of the Treasury in consultation with the Secretary of State, to engage in financial transactions with the governments of countries designated under section 6(j) of the Export Administration Act of 1979, 50 U.S.C. App. 2405(j) (the “EAA”), as supporting international terrorism. To implement section 321 of the Act, OFAC promulgated the Terrorism List Governments Sanctions Regulations, 31 CFR part 596 (the “Regulations”), effective August 22, 1996. 61 FR 43462 (Aug. 23, 1996).

Section 596.201 of the Regulations provides that, except as authorized by regulations, orders, directives, licenses, or otherwise, no United States person, knowing or having reasonable cause to know that a country is designated under section 6(j) of the EAA as a country supporting international terrorism, shall engage in a financial transaction with the government of such country. A schedule following section 596.201 listed those countries that were designated under section 6(j) as of the effective date of the Regulations (i.e., as of August 22, 1996). Since that date, the Secretary of State has issued Public Notices rescinding the designations of Iraq [69 FR 61702 (Oct. 20, 2004)], Libya [71 FR 39696 (July 13, 2006)], and North Korea [73 FR 63540 (Oct. 24, 2008)]. Accordingly, OFAC is amending section 596.201 of the Regulations so that the schedule that follows in new paragraph (b) of this section lists countries that are designated under section 6(j) as supporting international terrorism as of May 18, 2009. The schedule itself is being updated by the removal of Iraq, Libya, and North Korea, which are no longer so designated.

Public Participation

Because the amendment of the Regulations involves a foreign affairs function, the provisions of Executive Order 12866 and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 596

Administrative practice and procedure, Banking and finance, Cuba, Fines and penalties, Iran, Reporting and recordkeeping requirements, Syria, Sudan, Terrorism, Transfer of assets.

For the reasons set forth in the preamble, the Office of Foreign Assets Control amends 31 CFR part 596 as follows:

PART 596—TERRORISM LIST GOVERNMENTS SANCTIONS REGULATIONS

1. The authority citation for part 596 continues to read as follows:

Authority: 18 U.S.C. 2332d; 31 U.S.C. 321(b).

Subpart B—Prohibitions

2. Revise § 596.201 to read as follows:

§ 596.201 Prohibited financial transactions.

(a) Except as authorized by regulations, orders, directives, rulings, instructions, licenses, or otherwise, no United States person, on or after the effective date, knowing or having reasonable cause to know that a country is designated under section 6(j) of the Export Administration Act, 50 U.S.C. App. 2405, as a country supporting international terrorism, shall engage in a financial transaction with the government of that country.

(b) Countries designated under section 6(j) of the Export Administration Act as of May 18, 2009 are listed in the following schedule.

Schedule

Cuba.

Iran.

Sudan.

Syria.

Dated: May 7, 2009.
Barbara C. Hammerle,
Acting Director, Office of Foreign Assets Control.

[FR Doc. E9-11294 Filed 5-15-09; 8:45 am]

BILLING CODE 4811-45-P